DEPARTMENT OF ENERGY

Federal Energy Regulatory Commission

[Project No. 137-002]

Pacific Gas & Electric Company; Notice of Site Visit

August 11, 2000.

Take notice that on August 30 and 31, 2000, the Commission staff will visit the Mokelumne River Hydroelectric Project No. 137 to view the project facilities and area. The project is located in eastern California near the city of Sacramento, in Alpine, Amador, and Calaveras Counties, California. The project occupies federal lands in the Eldorado and Stanislaus National Forests. All interested individuals, organizations, and agencies are invited to accompany the Commission staff on the site visit.

On Wednesday, August 30, the participants will meet at 8 a.m. at the parking lot of Highway 88 at the turn-off to Tiger Creek Road (access road to the Tiger Creek powerhouse and afterbay). On Thursday, August 31, participants will meet at 8 a.m. at a location to be determined and announced at the end of the day on Wednesday. Those interested in participating should contact Steve Peirano at (415) 973-4481 in advance. Participants should provide their own transportation (a high clearance or four-wheel drive vehicle is recommended) for the site visit and should bring their own lunches.

For further information, please contact Jim Fargo at (202) 219-2848.

David P. Boergers,
Secretary.

[FR Doc. 00-20905 Filed 8-16-00; 8:45 am]

BILLING CODE 6717-01-M